DEPARTMENT OF JUSTICE

Notice of Lodging of Consent Decree Pursuant to the Clean Air Act, Clean Water Act, and Resource Conservation and Recovery Act

Notice is hereby given, in accordance with 28 CFR § 50.7, that on January 24, 2002, the United States lodged a proposed Consent Decree with the United States District Court for the Western District of Wisconsin, in United States v. Murphy Oil USA, Inc., Case No. 00-C-409-C (W.D. Wis.), under the Clean Air Act, Clean Water Act, and Resource Conservation and Recovery Act. The proposed consent Decree resolves specific allegations and claims of the United States and the State of Wisconsin against Murphy Oil USA, Inc. (“Murphy Oil”), and specific violations found by the United States District Court for the Western District of Wisconsin, arising out of the company's operation of a petroleum refinery located at 2400 Stinson Avenue, Superior, Wisconsin. Under the settlement, Murphy will (1) Pay a civil penalty of $5.5 million, $750,000 of which the United States will share with the State, (2) implement two Supplemental Environmental Projects (“SEPs”) which will reduce sulfur dioxide (“SO2”) emissions from certain units at the Refinery that were outside the lawsuit, at a cost of $7.5 million over five years, and (3) install a new pollution control device and perform other injunctive measures to remedy past violations and prevent future violations.

To address violations of the CAA's Prevention of Significant Deterioration (“PSD”) requirements and New Source Performance Standards at the Refinery's Sulfur Recovery Unit (“SRU”), Murphy will install a tail gas treatment unit which will substantially reduce SO2 emissions from the SRU and comply with stringent emission limitations that both EPA and the Wisconsin Department of Natural Resources (“WDNR”) believe are very close to Best Available Control Technology (“BACT”). The Decree further requires Murphy to apply to WDNR for a PSD permit, which will include a formal determination of BACT, and provides that, if BACT includes a more stringent SO2 emission limitation than that already in the Consent Decree, the Decree will be modified to incorporate the final BACT limitation. In addition, to address violations of the CAA's Leak Detection and Repair requirements, Murphy will implement for five years a Refinery-wide program the goal of which is to minimize volatile organic compound emissions from Refinery components. Finally, to address the CWA's Spill Prevention Control and Countermeasures requirements, Murphy will undertake measures to bring certain tanks into compliance, including measuring certain containment areas and increasing their capacity, if necessary.

To partially mitigate the penalty, Murphy will implement two SEPs: (1) A project to reduce Murphy's use of high sulfur fuel oil in process heaters and boilers to meet an SO2 emission limitation of 33.3 tons per month, averaged over a rolling 12-month period; and (2) a project in which Murphy will use a SOX transfer catalyst at its FCCU to reduce SO2 emissions from the FCCU to no greater than 34.7 tons per month, averaged over a rolling 12-month period. These two SEPs will reduce SO2 emissions from the Refinery by at least 580 tons per year beyond legal requirements.

The Department of Justice will accept written comments relating to the proposed Consent Decree for 30 days after publication of this Notice. Comments should be addressed to the Assistant Attorney General, Environment and Natural Resources Division, United States Department of Justice, P.O. Box 7611, Ben Franklin Station, Washington, DC 20044-7611, and should refer to United States v. Murphy Oil USA, Inc., DOJ # 90-7-1-06523. The proposed Consent Decree may be examined at the Office of the United States Attorney for the Western District of Wisconsin, Madison, Wisconsin, and at the Region 5 Office of the United States Environmental Protection Agency, 77 West Jackson Boulevard, Chicago, Illinois 60604. A copy of the proposed consent decree may also be obtained by mail from the U.S. Department of Justice, Consent Decree Library, P.O. Box 7611, Washington, DC 20044-7611 or by faxing a request to Tonia Fleetwood, fax no. (202) 514-0097, phone confirmation number (202) 514-1547.

In requesting a copy, please enclose a check for reproduction costs (at 25 cents per page) in the amount of $18.75 for the decree, payable to the United States Treasury.

William D. Brighton,
Assistant Chief, Environmental Enforcement Section, Environment and Natural Resources Division, U.S. Department of Justice.

[FR Doc. 02-2855 Filed 2-5-02; 8:45 am]

BILLING CODE 4410-15-M